DEPARTMENT OF JUSTICE

Notice of Lodging of Consent Decree Under the Comprehensive Environmental Response, Compensation, and Liability Act

Under 42 U.S.C. 9622(d)(2) and 28 CFR 50.7, notice is hereby given that on November 3, 2006, 2006, a proposed Consent Decree in United States and California Department of Toxic Substances Control v. Rathon Corp., Civil Action Number 06-07048, was lodged with the United States District Court for the Central District of California.

The consent decree resolves certain claims brought by the United States, on behalf of the United States Environmental Protection Agency (“EPA”), and the California Department of Toxic Substances Control (“DTSC”) under Sections 106 and 107 of the Comprehensive Environmental Response, Compensation, and Liability Act (“CERCLA”), 42 U.S.C. 9606 and 9607, and Section 7003 of the Resource Conservation and Recovery Act, as amended (“RCRA”), 42 U.S.C. 6973, for the performance of response actions, and for the reimbursement of response costs incurred and to be incurred by EPA and DTSC, in connection with the release and threatened release of hazardous substances at the Puente Valley Operable Unit of the San Gabriel Valley Area 4 Superfund Site (“Site”) in Los Angeles County, California.

The consent decree resolves defendant's liability for past costs, future costs, and work associated with the remedial action required for the Site set forth in EPA's 1998 Interim Record of Decision and the 2005 Explanation of Significant Differences.

The Department of Justice will receive, for a period of thirty (30) days from the date of this publication, comments relating to the Consent Decree. Comments should be addressed to the Assistant Attorney General, Environment and Natural Resources Division, P.O. Box 7611, U.S. Department of Justice, Washington, DC 20044-7611, and should refer to United States v. Rathon Corp., DOJ Ref. #90-11-2-354/24. Commenters may request an opportunity for a public meeting in the affected area, in accordance with Section 7003(d) of RCRA, 42 U.S.C. 6973(d).

The Consent Decree may be examined at the Office of the United States Attorney, 300 North Los Angeles Street, Los Angeles, California 90012, and the Region IX Office of the Environmental Protection Agency, 75 Hawthorne Street, San Francisco, CA 94105. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. To obtain a copy of the Consent Decree from the Consent Decree Library, excluding the numerous pages of attachments, please enclose a check in the amount of $9.50 (25 cents per page reproduction cost) payable to the U.S. Treasury.

Henry Friedman,
Assistant Section Chief, Environmental Enforcement Section, Environment and Natural Resources Division.

[FR Doc. 06-9351 Filed 11-21-06; 8:45 am]

BILLING CODE 4410-15-M